DEPARTMENT OF COMMERCE

Patent and Trademark Office

[Docket No.: PTO-P-2020-0057]

Extension of the Period for Comments on the National Strategy for Expanding American Innovation

AGENCY: United States Patent and Trademark Office, Department of Commerce.

ACTION: Extension of the comment period.

SUMMARY: The United States Patent and Trademark Office (USPTO) recently sought input from the public regarding the National Council for Expanding American Innovation (NCEAI). The USPTO is extending the comment period to ensure that all stakeholders have sufficient opportunity to submit comments on this important effort to develop a national strategy to expand innovation demographically, geographically, and economically.

DATES: To be ensured of consideration, written comments must be received on or before February 23, 2021.

ADDRESSES: For reasons of Government efficiency, comments must be submitted through the Federal eRulemaking Portal at www.regulations.gov. To submit comments via www.regulations.gov, enter docket number PTO-P-2020-0057 on the homepage and click “Search.” The site will provide a search results page listing all documents associated with this docket. Find a reference to this notice and click on the “Comment Now!” icon, complete the required fields, and enter or attach your comments. Attachments to electronic comments will be accepted in ADOBE® portable document format or MICROSOFT WORD® format. Because written comments and testimony will be made available for public inspection, information that a respondent does not desire to be made public, such as a phone number, should not be included in the testimony or written comments.

Visit the Federal eRulemaking Portal website (www.regulations.gov) for additional instructions on providing comments via the portal. If electronic submission of comments is not feasible due to a lack of access to a computer and/or the internet, please contact the USPTO using the contact information below for special instructions.

FOR FURTHER INFORMATION CONTACT: Please send your questions or comments regarding this notice to innovationcomment@uspto.gov, or telephone Janine Scianna, Office of Governmental Affairs, USPTO, at 571-272-0502.

SUPPLEMENTARY INFORMATION: The USPTO is extending the period for public comment on the NCEAI. The goal of the NCEAI is to create a national strategy to promote and increase participation by underrepresented groups in inventing and innovation. The NCEAI includes distinguished leaders from industry, academia, government, and nonprofit organizations.

In a Federal Register notice, Request for Comments on the National Strategy for Expanding American Innovation, 85 FR 83906 (Dec. 23, 2020) (the Notice), the USPTO sought input from the public regarding the development of a national strategy to create opportunities to expand our innovation ecosystem. In view of the importance of this effort, and given the desire to receive input from as broad a cross-section of the public as possible, the USPTO is now extending the period to address the questions raised in the Notice, or to provide any additional comments, until February 23, 2021.

Andrew Hirshfeld,
Commissioner for Patents, Performing the Functions and Duties of the Under Secretary of Commerce for Intellectual Property and Director of the United States Patent and Trademark Office.

[FR Doc. 2021-02571 Filed 2-5-21; 8:45 am]

BILLING CODE 3510-16-P